DEPARTMENT OF HOMELAND SECURITY

Federal Emergency Management Agency

[Docket ID FEMA-2017-0002; Internal Agency Docket No. FEMA-B-1705]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: March 13, 2017.
Roy E. Wright,
Deputy Associate Administrator for Insurance and Mitigation, Department of Homeland Security, Federal Emergency Management Agency.

State and county | Location and case No. | Chief executive officer of community | Community map repository | Online location of letter of map revision | Effective date of modification | Community No.
Colorado:
Arapahoe | City of Centennia (16-08-1082P) | The Honorable Cathy Noon, Mayor, City of Centennial, 13133 East Arapahoe Road, Centennial, CO 80112 | Southeast Metro, Stormwater Authority, 7437 South Fairplay Street, Centennial, CO 80112 | http://www.msc.fema.gov/lomc | May 19, 2017 | 080315
Boulder | City of Boulder (16-08-0675P) | The Honorable Suzanne Jones, Mayor, City of Boulder, P.O. Box 791, Boulder, CO 80306 | Planning and Development Services Department, 1739 Broadway Street, Boulder, CO 80302 | http://www.msc.fema.gov/lomc | May 17, 2017 | 080024
Teller | City of Woodland Park (16-08-1217P) | The Honorable Neil Levy, Mayor, City of Woodland Park, P.O. Box 9007, Woodland Park, CO 80866 | Public Works Department, 220 W South Avenue, Woodland Park, CO 80866 | http://www.msc.fema.gov/lomc | May 18, 2017 | 080175
Teller | Unincorporated areas of Teller County (16-08-1217P) | The Honorable Norm Steen, Chairman, Teller County Board of Commissioners, P.O. Box 959, Cripple Creek, CO 80813 | Teller County, Administrative Department, 112 North A Street, Cripple Creek, CO 80813 | http://www.msc.fema.gov/lomc | May 18, 2017 | 080173
Florida:
Bay | City of Callaway (16-04-6043P) | The Honorable Bob Pelletier, Mayor, City of Callaway, 6601 East Highway 22, Callaway, FL 32404 | Public Works Department, 324 South Berthe Avenue, Callaway, FL 32404 | http://www.msc.fema.gov/lomc | Jun 1, 2017 | 120005
Bay | Unincorporated areas of Bay County (16-04-6043P) | The Honorable William T. Dozier, Chairman, Bay County Board of Commissioners, 840 West 11th Street, Panama City, FL 32401 | Bay County Planning and Zoning Division, 840 West 11th Street, Panama City, FL 32401 | http://www.msc.fema.gov/lomc | Jun 1, 2017 | 120004
Broward | City of Plantation (16-04-7674P) | The Honorable Diane Veltri Bendekovic, Mayor, City of Plantation, 400 Northwest 73rd Avenue, Plantation, FL 33317 | Engineering Department, 401 Northwest 70th Terrace, Plantation, FL 33317 | http://www.msc.fema.gov/lomc | May 25, 2017 | 120054
Collier | City of Marco Island (17-04-0130P) | The Honorable Larry Honig, Chairman, City of Marco Island Council, 50 Bald Eagle Drive, Marco Island, FL 34145 | City Hall, 50 Bald Eagle Drive, Marco Island, FL 34145 | http://www.msc.fema.gov/lomc | May 12, 2017 | 120426
Lee | City of Sanibel (16-04-7280P) | The Honorable Kevin Ruane, Mayor, City of Sanibel, 800 Dunlop Road, Sanibel, FL 33957 | Planning and Code Enforcement Department, 800 Dunlop Road, Sanibel, FL 33957 | http://www.msc.fema.gov/lomc | May 12, 2017 | 120402
Lee | Town of Fort Myers Beach (16-04-7620P) | The Honorable Dennis C. Boback, Mayor, Town of Fort Myers Beach, 2525 Estero Boulevard, Fort Myers Beach, FL 33931 | Community Development Department, 2525 Estero Boulevard, Fort Myers Beach, FL 33931 | http://www.msc.fema.gov/lomc | May 25, 2017 | 120673
Lee | Town of Fort Myers Beach (17-04-0306P) | The Honorable Dennis C. Boback, Mayor, Town of Fort Myers Beach, 2525 Estero Boulevard, Fort Myers Beach, FL 33931 | Community Development Department, 2525 Estero Boulevard, Fort Myers Beach, FL 33931 | http://www.msc.fema.gov/lomc | May 25, 2017 | 120673
Monroe | Unincorporated areas of Monroe County (16-04-7184P) | The Honorable George Neugent, Mayor, Monroe County Board of Commissioners, 25 Ships Way, Big Pine Key, FL 33043 | Monroe County Building Department, 2798 Overseas Highway, Suite 300, Marathon, FL 33050 | http://www.msc.fema.gov/lomc | May 2, 2017 | 125129
Monroe | Unincorporated areas of Monroe County (17-04-0522P) | The Honorable George Neugent, Mayor, Monroe County Board of Commissioners, 25 Ships Way, Big Pine Key, FL 33043 | Monroe County Building Department, 2798 Overseas Highway, Suite 300, Marathon, FL 33050 | http://www.msc.fema.gov/lomc | May 30, 2017 | 125129
Pinellas | City of Clearwater (17-04-0745P) | The Honorable George N. Cretekos, Mayor, City of Clearwater, P.O. Box 4748, Clearwater, FL 33758 | Engineering Department, 100 South Myrtle Avenue, Suite 220, Clearwater, FL 33756 | http://www.msc.fema.gov/lomc | May 25, 2017 | 125096
St. Johns | Unincorporated areas of St. Johns County (16-04-7407P) | The Honorable Jeb Smith, Chairman, St. Johns County Board of Commissioners, 500 San Sebastian View, St. Augustine, FL 32084 | St. Johns County Building Services Department, 4040 Lewis Speedway, St. Augustine, FL 32084 | http://www.msc.fema.gov/lomc | May 30, 2017 | 125147
Seminole | City of Casselberry (16-04-3548P) | The Honorable Charlene Glancy, Mayor, City of Casselberry, 95 Triplet Lake Drive, Casselberry, FL 32707 | Public Works Department, 95 Triplet Lake Drive, Casselberry, FL 32707 | http://www.msc.fema.gov/lomc | May 22, 2017 | 120291
Georgia:
Bryan | Unincorporated areas of Bryan County (16-04-6054P) | The Honorable Jimmy Burnsed, Chairman, Bryan County Board of Commissioners, P.O. Box 430, Pembroke, GA 31321 | Bryan County Planning and Zoning Department, 66 Captain Matthew Freeman Drive, Suite 201, Richmond Hill, GA 31324 | http://www.msc.fema.gov/lomc | May 5, 2017 | 130016
Fayette | City of Peachtree City, (16-04-5178P) | The Honorable Vanessa Fleisch, Mayor, City of Peachtree City, 151 Willowbend Road, Peachtree City, GA 30269 | Engineering Department, 151 Willowbend Road, Peachtree City, GA 30269 | http://www.msc.fema.gov/lomc | Apr. 13, 2017 | 130078
Fayette | Unincorporated areas of Fayette County (16-04-5178P) | The Honorable Charles Oddo, Chairman, Fayette County Board of Commissioners, 140 Stonewall Avenue West, Suite 100, Fayetteville, GA 30214 | Fayette County Environmental Management Department, 140 Stonewall Avenue West, Suite 203, Fayetteville, GA 30214 | http://www.msc.fema.gov/lomc | Apr. 13, 2017 | 130432
Massachusetts:
Essex | City of Beverly (16-01-2010P) | The Honorable Michael P. Cahill, Mayor, City of Beverly, 191 Cabot Street, Beverly, MA 01915 | Public Services Department, 191 Cabot Street, Beverly, MA 01915 | http://www.msc.fema.gov/lomc | May 5, 2017 | 250077
Essex | City of Beverly (17-01-0046P) | The Honorable Michael P. Cahill, Mayor, City of Beverly, 191 Cabot Street, Beverly, MA 01915 | Public Services Department, 191 Cabot Street, Beverly, MA 01915 | http://www.msc.fema.gov/lomc | May 5, 2017 | 250077
Plymouth | Town of Marion (17-01-0065P) | The Honorable Jonathan E. Dickerson, Chairman, Town of Marion Board of Selectmen, 2 Spring Street, Marion, MA 02738 | Town Hall, 2 Spring Street, Marion, MA 02738 | http://www.msc.fema.gov/lomc | May 5, 2017 | 255213
North Carolina:
Onslow | Town of North Topsail Beach (17-04-0504P) | The Honorable Fred J. Burns, Mayor, Town of North Topsail Beach, 2008 Loggerhead Court, North Topsail Beach, NC 28460 | Planning Department, 2008 Loggerhead Court, North Topsail Beach, NC 28460 | http://www.msc.fema.gov/lomc | May 4, 2017 | 370466
Union | Unincorporated areas of Union County (16-04-5693P) | The Honorable Frank Aikmus, Chairman, Union County Board of Commissioners, 500 North Main Street, Suite 921, Monroe, NC 28112 | Union County Planning Department, 500 North Main Street, Suite 70, Monroe, NC 28112 | http://www.msc.fema.gov/lomc | May 1, 2017 | 370234
Wake | Town of Holly Springs (16-04-7667P) | The Honorable Richard G. Sears, Mayor, Town of Holly Springs, P.O. Box 8, Holly Springs, NC 27540 | Engineering Department, 128 South Main Street, Holly Springs, NC 27540 | http://www.msc.fema.gov/lomc | May 25, 2017 | 370403
Ohio:
Greene | City of Fairborn (16-05-6238P) | Mr. Pete Bales, CPRP, Interim Manager, City of Fairborn, 44 West Hebble Avenue, Fairborn, OH 45324 | Government Center, 44 West Hebble Avenue, Fairborn, OH 45324 | http://www.msc.fema.gov/lomc | May 19, 2017 | 390195
Rhode Island:
Providence | City of Cranston (16-01-1503P) | The Honorable Allan W. Fung, Mayor, City of Cranston, 869 Park Avenue, Cranston, RI 02910 | City Hall, 869 Park Avenue, Cranston, RI 02910 | http://www.msc.fema.gov/lomc | Apr. 21, 2017 | 445396
Texas:
Bexar | City of San Antonio (16-06-1449P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | May 18, 2017 | 480045
Collin | City of Frisco (16-06-3251P) | The Honorable Maher Maso, Mayor, City of Frisco, 6101 Frisco Square Boulevard, 3rd Floor, Frisco, TX 75034 | City Hall, 6101 Frisco Square Boulevard, 3rd Floor, Frisco, TX 75034 | http://www.msc.fema.gov/lomc | May 22, 2017 | 480134
Collin | City of McKinney (16-06-3366P) | The Honorable Brian Loughmiller, Mayor, City of McKinney, P.O. Box 517, McKinney, TX 75070 | Engineering Department, 221 North Tennessee Street, McKinney, TX 75069 | http://www.msc.fema.gov/lomc | May 8, 2017 | 480135
Collin | Unincorporated areas of Collin County (16-06-3366P) | The Honorable Keith Self, Collin County Judge, 2300 Bloomdale Road, Suite 4192, McKinney, TX 75071 | Collin County Engineering Department, 4690 Community Avenue, Suite 200, McKinney, TX 75071 | http://www.msc.fema.gov/lomc | May 8, 2017 | 480130
Denton | Town of Argyle (16-06-3285P) | The Honorable Peggy Krueger, Mayor, Town of Argyle, P.O. Box 609, Argyle, TX 76226 | Planning and Zoning Division, 308 Denton Street, Argyle, TX 76226 | http://www.msc.fema.gov/lomc | May 26, 2017 | 480775
Fort Bend | City of Missouri City (17-06-0015P) | The Honorable Allen Owen, Mayor, City of Missouri City, 1522 Texas Parkway, Missouri City, TX 77489 | Engineering Department, 1522 Texas Parkway, Missouri City, TX 77489 | http://www.msc.fema.gov/lomc | May 17, 2017 | 480304
Fort Bend | Unincorporated areas of Fort Bend County (17-06-0015P) | The Honorable Robert Hebert, Fort Bend County Judge, 401 Jackson Street, Richmond, TX 77469 | Fort Bend County Engineering Department, 301 Jackson Street, 4th Floor, Richmond, TX 77469 | http://www.msc.fema.gov/lomc | May 17, 2017 | 480228
Harris | City of Missouri City (16-06-2490P) | The Honorable Allen Owen, Mayor, City of Missouri City, 1522 Texas Parkway, Missouri City, TX 77489 | Engineering Department, 1522 Texas Parkway, Missouri City, TX 77489 | http://www.msc.fema.gov/lomc | Jun. 2, 2017 | 480304
Johnson and Tarrant | City of Burleson (17-06-0126P) | The Honorable Ken Shetter, Mayor, City of Burleson, 141 West Renfro Street, Burleson, TX 76028 | Engineering Services Department, 141 West Renfro Street, Burleson, TX 76028 | http://www.msc.fema.gov/lomc | May 8, 2017 | 485459
Montgomery | City of Conroe (16-06-1009P) | The Honorable Toby Powell, Mayor, City of Conroe, P.O. Box 3066, Conroe, TX 77305 | Public Works Department, 300 West Davis Street, Conroe, TX 77301 | http://www.msc.fema.gov/lomc | May 4, 2017 | 480484
Montgomery | City of Shenandoah (16-06-1009P) | The Honorable Ritch Wheeler, Mayor, City of Shenandoah, 29955 I-45 North Shenandoah, TX 77381 | City Hall, 29955 I-45 North Shenandoah, TX 77381 | http://www.msc.fema.gov/lomc | May 4, 2017 | 481256
Montgomery | Unincorporated areas of Montgomery County (16-06-1009P) | The Honorable Craig Doyal, Montgomery County Judge, 501 North Thompson Street, Suite 401, Conroe, TX 77301 | Montgomery County Engineering Department, 501 North Thompson Street, Suite 103, Conroe, TX 77301 | http://www.msc.fema.gov/lomc | May 4, 2017 | 480483
Tarrant | City of Fort Worth (17-06-0126P) | The Honorable Betsy Price, Mayor, City of Fort Worth, 1000 Throckmorton Street, Fort Worth, TX 76102 | Transportation and Public Works Department, 1000 Throckmorton Street, Fort Worth, TX 76102 | http://www.msc.fema.gov/lomc | May 8, 2017 | 480596
Tom Green | City of San Angelo (17-06-0008P) | Mr. Daniel Valenzuela, Manager, City of San Angelo, 72 West College Avenue, San Angelo, TX 76903 | City Hall, 72 West College Avenue, San Angelo, TX 76903 | http://www.msc.fema.gov/lomc | May 3, 2017 | 480623
Tom Green | Unincorporated areas of Tom Green County (17-06-0008P) | The Honorable Stephen C. Floyd, Tom Green County Judge, 122 West Beauregard Avenue, San Angelo, TX 76903 | Tom Green County Courthouse, 122 West Beauregard Avenue, San Angelo, TX 76903 | http://www.msc.fema.gov/lomc | May 3, 2017 | 480622
Utah:
Salt Lake | Town of Herriman (16-08-1375P) | The Honorable Carmen Freeman, Mayor, Town of Herriman, 13011 South Pioneer Street, Herriman, UT 84096 | City Hall, 13011 South Pioneer Street, Herriman, UT 84096 | http://www.msc.fema.gov/lomc | May 4, 2017 | 490252
Wyoming:
Albany | City of Laramie (16-08-0896P) | Ms. Janine Jordan, Manager, City of Laramie, P.O. Box C, Laramie, WY 82073 | City Hall, 406 Ivinson Avenue, Laramie, WY 82073 | http://www.msc.fema.gov/lomc | May 17, 2017 | 560002
Albany | Unincorporated areas of Albany County (16-08-0896P) | The Honorable Tim Chesnut, Chairman, Albany County Board of Commissioners, 525 East Grand Avenue, Suite 202, Laramie, WY 82070 | Albany County Planning Department, 1002 South 3rd Street, Laramie, WY 82070 | http://www.msc.fema.gov/lomc | May 17, 2017 | 560001

[FR Doc. 2017-06680 Filed 4-4-17; 8:45 am]

BILLING CODE 9110-12-P